NUCLEAR REGULATORY COMMISSION

Advisory Committee on Reactor Safeguards, Subcommittee Meeting on Safeguards and Security; Notice of Meeting

The ACRS Subcommittee on Safeguards and Security will hold a closed meeting on November 12-14, 2003, at Sandia National Laboratories, Albuquerque, New Mexico.

The entire meeting will be closed to public attendance to protect information classified as national security information pursuant to 5 U.S.C. 552b(c)(1).

The agenda for the subject meeting shall be as follows:

Wednesday, Thursday and Friday, November 12-14, 2003—8:30 a.m. until the conclusion of business.

The Subcommittee will hear presentations from representatives of the NRC staff, NRC staff consultants and industry on pilot plant study insights and potential mitigation strategies. The purpose of this meeting is to gather information, analyze relevant issues and facts, and formulate proposed positions and actions, as appropriate, for deliberation by the full Committee.

Further information contact: Mr. Richard K. Major, telephone: (301) 415-7366 or Dr. Richard P. Savio, telephone: (301) 415-7363 between 7:30 a.m. and 4:15 p.m. (ET).

Dated: October 16, 2003.
Sher Bahadur,
Associate Director for Technical Support, ACRS/ACNW.

[FR Doc. 03-26633 Filed 10-21-03; 8:45 am]

BILLING CODE 7590-01-P